NUCLEAR REGULATORY COMMISSION

Geologic Repository Operations Area Security and Material Control and Accounting Requirements; Meeting

AGENCY: Nuclear Regulatory Commission.

ACTION: Notice of meeting.

SUMMARY: The Nuclear Regulatory Commission (NRC) has published a proposed rule on Geologic Repository Operations Area Security and Material Control and Accounting Requirements for public comment (72 FR 72522; December 20, 2007). The public comment period runs from December 20, 2007 thru March 4, 2008. As part of the public comment process, the NRC plans to hold a transcribed public meeting to solicit comments on the proposed rule. NRC staff will be taking comments only and will not be prepared to discuss or respond to comments or questions on the rule. The meeting is open to the public and all interested parties may attend. The meeting will be held on January 23, 2008, in the NRC Hearing Facility at the Pacific Enterprise Plaza, Building One, 3250 Pepper Lane, Las Vegas, Nevada. During the comment period, comments may also be mailed to the NRC or submitted via fax or e-mail.

DATES: January 23, 2008 from 3 p.m. to 7 p.m.

ADDRESSES: The January 23 meeting will be held in the NRC Hearing Facility at the Pacific Enterprise Plaza, Building One, 3250 Pepper Lane, Las Vegas, NV 89120.

FOR FURTHER INFORMATION CONTACT: Merri Horn, telephone (301) 415-8126, e-mail, mlh1@nrc.gov of the Office of Federal and State Materials and Environmental Management Programs, U.S. Nuclear Regulatory Commission, Washington, DC 20555-0001.

SUPPLEMENTARY INFORMATION: The purpose of this meeting is to obtain stakeholder comments on the Geologic Repository Operations Area Security and Material Control and Accounting Requirements Proposed Rule. The NRC staff will only be accepting comments at the meeting; staff will not be prepared to answer any questions related to the rule. The proposed rule would revise the security requirements and material control and accounting (MC&A) requirements for a geologic repository operations area (GROA). The goal of this rulemaking is to ensure that effective security measures are in place for the protection of high-level radioactive waste (HLW) and other radioactive material at a GROA given the post-September 11, 2001, threat environment. New requirements for specific training enhancements, improved access authorization, enhancements to defensive strategies, and enhanced reporting requirements would be incorporated. The proposed rule would establish general performance objectives and corresponding system capabilities for the GROA MC&A program, with a focus on strengthening, streamlining, and consolidating all MC&A regulations specific to a GROA. In addition, the proposed rule would require the emergency plan to address radiological emergencies. The proposed rule is available via the Federal eRulemaking Portal http://www.regulations.gov.

Agenda: Welcome—10 minutes; NRC staff presentation on Rule Requirements—30 minutes; Public Comment—remainder. There will be a 15 minute break at 5 p.m. To ensure that everyone who wishes has the chance to comment, we may impose a time limit on speakers.

Attendees are requested to notify Vivian Mehrhoff, telephone (702) 794-5053, e-mail vlm@nrc.gov to pre-register for the meetings. If you wish to pre-register, you need to contact the above individual by January 18, 2008. You will be able to register at the meeting, as well.

Dated at Rockville, Maryland, this 20th day of December, 2007.
For the Nuclear Regulatory Commission.
Dennis K. Rathbun,
Director, Division of Intergovernmental Liaison and Rulemaking, Office of Federal and State Materials and Environmental Management Programs.

[FR Doc. E7-25415 Filed 12-28-07; 8:45 am]

BILLING CODE 7590-01-P